DEPARTMENT OF EDUCATION

RIN 1820 ZA33

National Institute on Disability and Rehabilitation Research—Disability and Rehabilitation Research Projects and Centers Program—Rehabilitation Engineering Research Centers

AGENCY: Office of Special Education and Rehabilitative Services, Department of Education.

ACTION: Notice of final priority (NFP) for Rehabilitation Engineering Research Centers (RERC) program.

SUMMARY: The Assistant Secretary for Special Education and Rehabilitative Services announces a final priority under the National Institute on Disability and Rehabilitation Research (NIDRR) Disability and Rehabilitation Research Projects and Centers Program—Rehabilitation Engineering Research Centers (RERC) program for fiscal year (FY) 2004 and later years. We take this action to focus research attention on areas of national need. We intend this priority to improve the rehabilitation services and outcomes for individuals with disabilities.

EFFECTIVE DATE: This final priority is effective June 28, 2004.

FOR FURTHER INFORMATION CONTACT: Donna Nangle, U.S. Department of Education, 550 12th Street, SW., room 6046, Potomac Center Plaza, Washington, DC 20202. Telephone: (202) 245-7462 or via Internet: donna.nangle@ed.gov.

If you use a telecommunications device for the deaf (TDD), you may call the TDD number at (202) 245-7313.

Individuals with disabilities may obtain this document in an alternative format (e.g., Braille, large print, audiotape, or computer diskette) on request to the contact person listed under FOR FURTHER INFORMATION CONTACT.

SUPPLEMENTARY INFORMATION:

Rehabilitation Engineering Research Centers Program

Under the RERC program, we may make awards for up to 60 months through grants or cooperative agreements to public and private agencies and organizations, including institutions of higher education, Indian tribes, and tribal organizations. This funding supports research, demonstration, and training activities regarding rehabilitation technology in order to enhance opportunities for meeting the needs of, and addressing the barriers confronted by, individuals with disabilities in all aspects of their lives. Each RERC must be operated by or in collaboration with an institution of higher education or a nonprofit organization. Additional information on the RERC program can be found at: http://www.ed.gov/rschstat/research/pubs/RERC.

General Requirements of Rehabilitation Engineering Research Centers

RERCs shall carry out research or demonstration activities in support of the Rehabilitation Act of 1973, as amended, by—

• Developing and disseminating innovative methods of applying advanced technology, scientific achievement, and psychological and social knowledge to (1) solve rehabilitation problems and remove environmental barriers and (2) study and evaluate new or emerging technologies, products, or environments and their effectiveness and benefits;

• Demonstrating and disseminating (1) innovative models for the delivery of cost-effective rehabilitation technology services to rural and urban areas and (2) other scientific research to assist in meeting the employment and independent living needs of individuals with severe disabilities;

• Facilitating service delivery systems change through (1) the development, evaluation, and dissemination of consumer-responsive and individual and family-centered innovative models for the delivery to both rural and urban areas of innovative cost-effective rehabilitation technology services and (2) other scientific research to assist in meeting the employment and independence needs of individuals with severe disabilities; and

• Providing training opportunities, in conjunction with institutions of higher education and nonprofit organizations, to assist individuals, including individuals with disabilities, to become rehabilitation technology researchers and practitioners.

The Department is particularly interested in ensuring that the expenditure of public funds is justified by the execution of intended activities and the advancement of knowledge and, thus, has built this accountability into the selection criteria. During the funding cycle of any RERC, NIDRR will conduct one or more reviews of the activities and achievements of the RERC. In accordance with the provisions of 34 CFR 75.253(a), continued funding depends at all times on satisfactory performance and accomplishment.

We published a notice of proposed priority (NPP) for this program in the Federal Register on February 27, 2004 (69 FR 9307). The NPP included a background statement for this priority at 69 FR 9308. This NFP contains one change from the NPP. We discuss this change in the Analysis of Comments and Changes section published as an appendix to this notice.

Note: This notice does not solicit applications. In any year in which we choose to use this priority, we invite applications through a notice published in the Federal Register. When inviting applications, we designate the priority as absolute, competitive preference, or invitational.

The effect of each type of priority follows:

Absolute priority: Under an absolute priority we consider only applications that meet the absolute priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/infocus/newfreedom/.

This final priority is in concert with NIDRR's Long-Range Plan (Plan). The Plan is comprehensive and integrates many issues relating to disability and rehabilitation research topics. While applicants will find many sections throughout the Plan that support potential research to be conducted under this priority, a specific reference is included for each of the priority topics presented in this notice. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priority

The Assistant Secretary announces a final priority for the funding of RERCs that will focus on innovative technological solutions; new knowledge; and concepts to promote the health, safety, independence, active engagement in daily activities, and quality of life of persons with disabilities. Applicants must select one of the following priority topic areas: (a) Universal Design and the Built Environment; (b) Telecommunications Access; (c) Telerehabilitation; and (d) Cognitive Technologies.

Applicants are allowed to submit more than one proposal as long as each proposal addresses only one RERC topic area.

Under each of the priority topics the RERC must—

(1) Contribute substantially to the technical and scientific knowledge-base relevant to its respective subject area;

(2) Research, develop, and evaluate innovative technologies, products, environments, performance guidelines, and monitoring and assessment tools as applicable to its respective subject area;

(3) Identify, implement, and evaluate, in collaboration with the relevant industry, professional associations, and institutions of higher education, innovative approaches to expand research capacity in its respective field of study;

(4) Monitor trends and evolving product concepts that represent and signify future directions for technologies in its respective area of research; and

(5) Provide technical assistance to public and private organizations, persons with disabilities, and employers on policies, guidelines, and standards that affect its respective area of research.

In addition, the following requirements apply to each of the priority topics:

• Each RERC must have the capability to design, build, and test prototype devices and assist in the transfer of successful solutions to relevant production and service delivery settings. Each RERC must evaluate the efficacy and safety of its new products, instrumentation, or assistive devices;

• Each RERC must develop and implement in the first three months of the grant a plan that describes how the center will include, as appropriate, individuals with disabilities or their representatives in all phases of center activities including research, development, training, dissemination, and evaluation;

• Each RERC must develop and implement in the first year of the grant, in consultation with the NIDRR-funded National Center for the Dissemination of Disability Research (NCDDR), a plan to disseminate the RERC's research results to persons with disabilities, their representatives, disability organizations, service providers, professional journals, manufacturers, employers, and other interested parties;

• Each RERC must develop and implement in the first year of the grant, in consultation with the NIDRR-funded RERC on Technology Transfer, a plan for ensuring that all new and improved technologies developed by this RERC are successfully transferred to the marketplace;

• Each RERC must conduct a state-of-the-science conference on its respective area of research in the third year of the grant and publish a comprehensive report on the final outcomes of the conference in the fourth year of the grant; and

• Each RERC must coordinate with research projects of mutual interest with relevant NIDRR-funded projects as identified through consultation with the NIDRR project officer.

Each RERC must focus on one of the following priority topic areas:

(a) Universal Design and the Built Environment: This RERC must research, develop, and evaluate strategies and devices that will advance the field of universal design and assist designers, builders, and manufacturers with incorporating universal design in their products and buildings. This RERC also must research, develop and evaluate methods and strategies that improve upon and expand current anthropometric data collection practices and databases, both static and dynamic (functional), pertaining to persons with disabilities. The reference for this topic can be found in the Plan, chapter 5, Technology for Access and Function: Systems Technology: Universal Design and Accessibility.

(b) Telecommunications Access: This RERC must research and develop technological solutions to promote universal access to telecommunications systems and products including strategies for integrating current accessibility features into newer generations of telecommunications systems and products. The reference for this topic can be found in the Plan, chapter 5, Technology for Access and Function: Research to Improve Accessibility of Telecommunications and Information Technology.

(c) Telerehabilitation: This RERC must research and develop methods, systems, and technologies that support remote delivery of rehabilitation and home health care services for individuals who have limited local access to comprehensive medical and rehabilitation outpatient services. The reference for this topic can be found in the Plan, chapter 5, Technology for Access and Function: Research to Improve Accessibility of Telecommunications and Information Technology.

(d) Cognitive Technologies: This RERC must research, develop, and evaluate innovative technologies and approaches that will improve the ability of individuals with significant cognitive disabilities to function independently within their communities and workplaces. The reference for this topic can be found in the Plan, chapter 5, Technology for Access and Function: Research on Technology to Enhance Cognitive Function.

Executive Order 12866

This notice of final priority has been reviewed in accordance with Executive Order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority, we have determined that the benefits of the final priority justify the costs.

Summary of potential costs and benefits: The potential costs associated with this final priority are minimal while the benefits are significant. Grantees may anticipate costs associated with completing the application process in terms of staff time, copying, and mailing or delivery. The use of e-Application technology reduces mailing and copying costs significantly.

The benefits of the RERC program have been well established over the years. Similar projects have generated new knowledge and technologies.

The benefit of this final priority will be the establishment of new RERCs, which can be expected to develop technological solutions that will improve the lives of persons with disabilities and to contribute substantially to the technical and scientific knowledge-base in the topic areas.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133E, Rehabilitation Engineering Research Centers Program)

Program Authority: 29 U.S.C. 762(g) and 764(b)(3).

Dated: May 26, 2004.
Troy R. Justesen,
Acting Deputy Assistant Secretary for Special Education and Rehabilitative Services.

Appendix—Analysis of Comments and Changes

In response to our invitation in the NPP, we received 10 comments. An analysis of the comments and of the changes in the priority since publication of the NPP follows.

Generally, we do not address technical and other minor changes and suggested changes we are not authorized to make under the applicable statutory authority.

Comments: One commenter believes the target audience for the Universal Design and the Built Environment topic area should be expanded beyond architects and interior designers to include consumer product and package designers.

Discussion: An applicant may propose activities that include consumer product and package designers. The peer review process will be used to evaluate the merits of the proposal. However, NIDRR has no basis for requiring that all applicants include consumer product and package designers in their activities.

Changes: None.

Comments: One commenter believes the Universal Design and the Built Environment topic area should require applicants to research, develop, and evaluate innovative ways to present anthropometric data so that designers are more likely to incorporate the information into their designs.

Discussion: An applicant may propose activities that include innovative ways to present anthropometric data. The peer review process will evaluate the merits of the proposal. However, NIDRR has no basis for requiring that all applicants include these activities.

Changes: None.

Comments: One commenter states that persons with cognitive disabilities have been underserved by the universal design community and believes the Universal Design and the Built Environment topic area should require applicants to include the design needs of persons with cognitive disabilities in their research and development projects.

Discussion: The general concept behind universal design is to design products and environments to be usable by all people, to the greatest extent possible, without the need for adaptations or special design. NIDRR expects this RERC to follow the Principles of Universal Design and to include as many populations as possible, including persons with cognitive disabilities in their research and development projects. NIDRR agrees with the commenter that the universal design community has been slow to include the design needs of persons with cognitive disabilities. However, NIDRR has no basis to require all applicants to identify persons with cognitive disabilities as a target population for their respective research and development projects. An applicant may propose this activity and the peer review process will be used to evaluate the merits of the proposal.

Changes: None.

Comments: One commenter asked for clarification regarding the Universal Design and the Built Environment topic area requirement to improve upon and expand current anthropometric data collection practices and databases. The commenter wanted to know whether NIDRR is simply looking to expand the database of reach ranges or whether it is interested in collecting other anthropometric data that can be used as a tool for designers of the built environment.

Discussion: NIDRR believes that in addition to creating a database of reach ranges, there are many needs in the area of anthropometry for persons with disabilities. An applicant could propose activities that include collecting other types of anthropometric data that can be used by designers and architects. The peer review process will evaluate the merits of the proposal.

Changes: None.

Comments: Two commenters believe applicants responding to the Cognitive Technologies topic area should be required to consider incorporating the principles of universal design in their research and development projects.

Discussion: An applicant could propose activities that incorporate the principles of universal design. The peer review process will evaluate the merits of the proposal. However, NIDRR has no basis to determine that all applicants should be required to incorporate the principles of universal design into all their activities.

Changes: None.

Comments: One commenter believes that applicants responding to the Cognitive Technologies topic area should be required to develop simple and effective tools for applying clinical and technical knowledge about diverse cognitive disabilities.

Discussion: An applicant could propose activities that include development of simple and effective tools for applying clinical and technical knowledge about diverse cognitive disabilities. The peer review process will evaluate the merits of the proposal. However, NIDRR has no basis for requiring that all applicants include these activities.

Changes: None.

Comments: One commenter believes a RERC on Cognitive Technologies must employ personnel with the requisite skills and knowledge to understand the need for and, as appropriate, develop individualized solutions for persons with cognitive disabilities.

Discussion: An applicant may propose activities that address the need for and, as appropriate, develop individualized solutions for persons with cognitive disabilities. The peer review process will evaluate the merits of the proposal. However, NIDRR has no basis for requiring that all applicants propose these activities.

Changes: None.

Comments: One commenter believes that the RERC on Cognitive Technologies should disseminate RERC findings and information through the National Resource Center for Traumatic Brain Injury.

Discussion: All RERCs are required to develop a dissemination plan within the first year of their funding cycle. An applicant may propose a plan to disseminate RERC findings and information through the National Resource Center for Traumatic Brain Injury. The peer review process will evaluate the merits of the proposal. However, NIDRR has no basis to determine that all applicants should be required to disseminate findings through this group.

Changes: None.

Comments: One commenter believes that people with cognitive disabilities should be involved in the research and design of a RERC on Cognitive Technologies. However, communication problems and difficulty with memory and thought organization experienced by many people with cognitive disabilities will require investigators to explore new methods for participatory research.

Discussion: All RERCs are required to develop and implement in the first three months of their funding cycle a plan to include, as appropriate, individuals with disabilities or their representatives in all phases of center activities including research, development, training, dissemination, and evaluation.

Changes: None.

Comments: One commenter noted that the Telecommunications Access topic area included a requirement to provide technical assistance to public and private organizations, persons with disabilities, and employers on policies, guidelines, and standards that affect the accessibility of telecommunications technology products and systems. The commenter stated that this requirement should be mandatory for all RERCs and not just the one that focuses on Telecommunications Access.

Discussion: NIDRR agrees with the commenter that every RERC should provide technical assistance to public and private organizations, persons with disabilities, and employers on policies, guidelines, and standards that affect their respective areas of research.

Changes: The fifth required activity for a RERC under each of the priority topics has been changed so that it reads: “Provide technical assistance to public and private organizations, persons with disabilities, and employers on policies, guidelines, and standards that affect its respective area of research.” The final priority topic area, Telecommunications Access, has been modified to reflect this change by removing the second sentence.

Comments: One commenter suggested that there are both off-the-shelf and emerging technologies that have not been explored and that RERCs would benefit from looking to these technologies prior to proposing new, but similar, research and development projects.

Discussion: An applicant may propose activities that mine existing off-the-shelf and emerging technologies. The peer review process will be used to evaluate the merits of the proposal. However, NIDRR has no basis for requiring that all applicants propose these activities.

Changes: None.

Comments: Several commenters expressed concerns that research on the built environment and anthropometric data collection and databases represent distinct areas that should be addressed in separate priorities. These commenters believed that research on the built environment is not being addressed adequately through other current NIDRR projects and that including anthropometric research diverts attention from the built environment.

Discussion: NIDRR believes that the two topics are closely linked and therefore should be included under one RERC. An applicant could propose more activity on the built environment and less on anthropometric research as long as requirements that both topic areas are addressed are met. The peer review process will be used to evaluate the merits of the proposal.

Changes: None.

[FR Doc. 04-12252 Filed 5-27-04; 8:45 am]

BILLING CODE 4000-01-P